DEPARTMENT OF COMMERCE

Census Bureau

Proposed Information Collection; Comment Request; National Survey of Children's Health

AGENCY: U.S. Census Bureau, Commerce.

ACTION: Notice.

SUMMARY: The Department of Commerce, as part of its continuing effort to reduce paperwork and respondent burden, invites the general public and other Federal agencies to take this opportunity to comment on a proposed revision of the National Survey of Children's Health, as required by the Paperwork Reduction Act of 1995.

DATES: To ensure consideration, written comments must be submitted on or before January 21, 2020.

ADDRESSES: Direct all written comments to Carolyn Pickering, Survey Director, U.S. Census Bureau, 4600 Silver Hill Road, HQ-7H153, Washington, DC 20233 (or via the internet at PRAcomments@doc.gov). You may also submit comments, identified by Docket Number USBC-2019-0016 to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or copies of the information collection instrument(s) and instructions should be directed to Carolyn Pickering, U.S. Census Bureau, ADDP, HQ-7H153, 4600 Silver Hill Road, Washington, DC 20233-0001 (301-763-3873 or via email at Carolyn.M.Pickering@census.gov).

SUPPLEMENTARY INFORMATION:

I. Abstract

Sponsored primarily by the U.S. Department of Health and Human Services' Health Resources Services Administration's Maternal and Child Health Bureau (HRSA MCHB), the National Survey of Children's Health (NSCH) is designed to produce data on the physical and emotional health of children under 18 years of age who live in the United States. The United States Department of Agriculture and the United States Department of Health and Human Services' Center for Disease Control and Prevention, National Center on Birth Defects and Developmental Disabilities sponsor supplemental content on the NSCH. Additionally, the upcoming cycle of the NSCH would like to feature four individual state oversamples that include the selection of a pre-determined number of sample cases above the current production base sample in those states. The state oversamples would be sponsored by the State of Colorado, the State of Nebraska, the Oregon Center for Children and Youth with Special Health Care Needs, and the State of Wisconsin.

The NSCH collects information on factors related to the well-being of children, including access to health care, in-home medical care, family interactions, parental health, school and after-school experiences, and neighborhood characteristics. The goal of the 2020 NSCH is to provide HRSA MCHB, the supplemental sponsoring agencies, states, and other data users with the necessary data to support the production of national estimates yearly and state-based estimates with pooled samples on the health and well-being of children, their families, and their communities as well as estimates of the prevalence and impact of children with special health care needs.

Proposed Changes

Below is a list of updates we are requesting for the 2020 NSCH. These updates will be described in further detail within the full Office of Management and Budget (OMB) Information Collection Request (ICR) package.

• Increased sample size—With additional sponsor funding and realized cost savings from streamlining the survey operations process, we are requesting an increase in sample size. The base NSCH sample plus the proposed state oversamples may reach up to 240,000 addresses for the 2020 NSCH. The additional burden on any one address is not increasing as the total estimated time to complete the survey remains less than 5 minutes for households without children and, on average, 33 minutes for households with children. However, because the total number of sampled addresses is increasing by approximately 45,000, the total overall burden to the public is also increasing by approximately 9,271 hours. The increased sample will allow individual states to produce statistically sound child health estimates in a fewer number of years than if the sample were to remain the same annually, thereby resulting in more timely state-level health estimates of children.

• Unconditional incentive distribution percentage—We plan to continue monitoring the effectiveness of the unconditional monetary incentive, but request an increase to the percent of addresses receiving a $5 incentive in the initial screener mailing. When utilized, an unconditional incentive has proven effective each cycle of the NSCH. Response rates for the unconditional monetary incentive groups showed a statistically significant difference over the control group that did not receive an unconditional monetary incentive. A larger increase in response was noted for the households mailed a $5 compared with the $2 incentive, however both treatment groups have proven effective at reducing nonresponse bias by encouraging response. For both the 2018 NSCH and 2019 NSCH, the initial screener incentive splits were 45% received $2; 45% received $5; and 10% did not receive an incentive. The proposal for 2020 NSCH is that 30% receive $2; 60% receive $5; and 10% would not receive an incentive with the initial mailing. The incentive assignment to each sampled address would still be random as was done in prior cycles and approved by OMB. Results from the 2018 NSCH indicate that the increased incentive amount proved effective at obtaining a higher response in general and particularly so from underrepresented population groups.¹ Therefore, the goal of an increased $5 incentive treatment group is aimed at reducing nonresponse bias further.

¹ U.S. Census Bureau. (2019). 2018 NSCH methodology report. Retrieved from https://www2.census.gov/programs-surveys/nsch/technical-documentation/methodology/2018-NSCH-Methodology-Report.pdf.

• Redesigned survey contact materials test—Instead of testing a redesigned envelope alone in the initial mailing (as was done in 2019), the 2020 NSCH plans to assign a 30% experimental treatment group to receive a redesigned suite of screener (and topical if applicable) survey invitation and follow-up mail packages throughout the entire data collection period. Two rounds of cognitive testing were approved previously by OMB ² and will be used to inform development of the redesigned contact materials and envelopes. The goal of the redesign is to provide the sampled addresses with a cohesive set of items within each survey invitation package. The proposed materials include key facts pertaining to survey data usage, relatable images for the target population, and colors that match the associated paper questionnaires. We plan to evaluate the experimental treatment group after data closeout to determine the effectiveness of the redesigned package strategy and inform future decision-making.

² Generic Clearance Information Collection Request: https://www.reginfo.gov/public/do/PRAViewIC?ref_nbr=201606-0607-003&icID=236843.

• Revised questionnaire content—The NSCH questionnaires with newly proposed and revised content from the sponsors at HRSA MCHB are currently undergoing two rounds of cognitive testing. This testing request was submitted under the generic clearance package and approved by OMB ³. Based on the results, a final set of proposed modified content will be included in the full OMB ICR for the 2020 NSCH.

³ Generic Clearance Information Collection Request: https://www.reginfo.gov/public/do/PRAViewIC?ref_nbr=201606-0607-003&icID=237067.

• State oversample ⁴—In order to inform state-level decision making around various priorities, some stakeholders have shown interest in sponsoring an oversample of addresses within their state as part of the annual NSCH administration. Currently, four states (Colorado, Nebraska, Oregon, and Wisconsin) are moving forward with this option for the first time as part of the 2020 NSCH. Oversamples will provide states with more robust data for analysis and planning at the state level. The oversamples can be classified as either a general state-wide oversample or sub-state oversample. The state-wide oversample increases the total number of sampled addresses within a given state and will be distributed to the geographic areas similarly to the production base sample. State-level estimates of rare populations or outcomes could be evaluated from this larger sample, but sub-state (e.g., county-level) estimates could not. The sub-state oversample is aimed at producing smaller than state-level (e.g., county or county-level grouping) estimates in combination with the NSCH base sample to reach a specific sample size in each targeted group. The requirements to meet each sub-state oversample are primarily determined by county for the 2020 NSCH.

⁴ State Oversampling in the National Survey of Children's Health: Feasibility, Cost, and Alternative Approaches https://census.gov/content/dam/Census/programs-surveys/nsch/NSCH_State_Oversample_Summary_Document.pdf.

Current Design

Besides the proposed changes listed above, the 2020 NSCH will proceed with the current design outlined in the previous OMB ICR package. We will continue to make modifications to data collection strategies based on modeled information about paper or internet response preference. Results from prior survey cycles will continue to be used to inform the decisions made regarding future cycles of the NSCH.

Based on the results from prior survey cycles and available funds, an unconditional cash incentive will be included with the initial mailing. Survey research indicates that incentives are a necessary and cost‐effective expense for achieving a response rate that minimizes nonresponse bias.⁵ Our testing to date is consistent with this research. Evaluation of previous NSCH cycles showed a statistically significant difference in response rates when respondents received an incentive compared to those who were part of the control group that did not receive an incentive. The effect of the incentive was proportionately larger for household types that were less likely to respond in previous years, reducing nonresponse bias. There was a larger increase in response for households mailed a $5 incentive compared to those mailed a $2 incentive with their initial survey invite; both treatments proved effective at encouraging response and reducing nonresponse bias in 2019. As noted in the proposed changes section, we would like to increase the total number of $5 cash incentives sent with the initial mailing to 60% and reduce the total number of $2 cash incentives sent with the initial mailing to 30% and maintain the control group (receiving no incentive) at 10%. For respondents who answer a paper screener interview and are mailed their first paper topical questionnaire, a $5 incentive will be used to reduce bias and gain cooperation for this critical second stage of paper questionnaire data collection.

⁵ Brick JM, Williams D, Montaquila JM. 2011. “Address‐Based Sampling for Subpopulation Surveys”. Public Opinion Quarterly, 75(3): 409-28; Foster EB, Frasier AM, Morrison HM, O'Connor KS, Blumberg SJ. 2010. “All Things Incentive: Exploring the Best Combination of Incentive Conditions”. Paper presented at the American Association for Public Opinion Research annual conference, Chicago, IL.

In addition to the testing of incentives, the 2020 NSCH will continue to serve as a platform to evaluate different nonresponse follow-up mailing strategies based on a household's likelihood to respond using a paper questionnaire. To determine this, we assign a paper-preference probability to every address using American Community Survey (ACS) response mode choices, previous NSCH response mode choices, and small area geographic characteristics. The 30% of addresses with the highest paper-preference probability are assigned to the “High Paper” group and receive a paper questionnaire in each mailing, starting with the initial invitation. The other 70% of addresses are assigned to the “High Web” group and receive their first paper questionnaires in the second nonresponse follow-up screener invitation.

Since there continues to be a significant potential for cost savings in web data collection over paper data collection, we are working to refine and retest an internet response indicator for future NSCH production cycles based on the results from prior data collection efforts.

A proven effective contact strategy that will continue to be used in the 2020 NSCH is the pressure-sealed reminder postcard. The reminder postcard will be mailed approximately one week after the initial screener (and topical if applicable) survey invite mailing and the first nonresponse follow-up. We originally implemented this strategy because the time gap between mailings during the 2016 NSCH proved too long, and a significant dip in response flow was observed between mailings. Over the past few cycles, these pressure-sealed reminder postcards have helped boost response immediately following their delivery and reduce the time between other nonresponse follow-up mailings. The ability to send reminders enclosed with a pressure-seal system allows us to include login information for the Centurion web instrument as well as specific information about the survey. This mailing also includes a paragraph in Spanish that will direct the respondent to the Spanish web survey or the Telephone Questionnaire Assistance (TQA) line for assistance.

As in prior administration of the NSCH, the 2020 NSCH will have a TQA line available to respondents who experience technical problems with the web instrument, have questions about the survey, or need other forms of assistance. TQA staff will be able to answer respondent questions and concerns, while having the ability to collect survey responses over the phone—if the respondent calls in and would like to have interviewer assistance in completing the survey. Also, respondents can submit questions by email. Email Questionnaire Assistance agents will monitor the email account inbox and respond promptly.

In both internet and paper collection modes, the survey design for the 2020 NSCH focuses on first collecting information about the children in the household and basic special health care needs, and then selecting a child from the household for follow-up to collect additional detailed topical information. If there is more than one eligible child in a household, a single child will be selected based on a sampling algorithm that considers the age and number of children as well as the presence of children with special health care needs. We estimate that, from the original 240,000 selected production sample addresses, our target screener return rate of 39.3% will yield approximately 94,370 responses to the screener. We then estimate that 54.2% of households from the first phase of the screener will be eligible to receive a topical questionnaire (households with children), and 77.4% of these households with children will return the topical questionnaire, resulting in approximately 39,596 completed topical interviews. A household could be selected for one of three age-based topical surveys: 0-to-5-year-old children, 6-to-11-year-old children, or 12-to-17-year-old children.

Census Bureau staff have developed a plan to select a production sample of approximately 240,000 households (addresses) from a Master Address File-based sampling frame, with split panels to test mode of administration (i.e., high-web and low-web), and improvements to contact materials and strategies. Based on results of the prior NSCH incentive experiments, we plan to use small, unconditional cash incentives with a control group receiving no incentive to monitor the effectiveness of the incentive expenditures. For respondents who answer the paper screener and are mailed a paper topical questionnaire, an additional $5 incentive is expected for that mailing. From prior cycles of the NSCH, using American Association for Public Opinion Research definitions of response, we can expect for the 2020 NSCH an overall screener completion rate to be about 48.6% and an overall topical completion rate to be about 36.9%.⁶ This is different from the total overall response rate, which we expect to be about 42.2%.⁷

⁶ Screener Completion Rate is the proportion of screener-eligible households (i.e., occupied residences) that completed a screener. It is equal to (S+X)/(S+X+R+e(UR+UO)), where S is the count of completed screeners with children, X is completed screeners without children, R is screener refusals, and e(UR+UO) is the estimated count of screener eligible households among nonresponding addresses.

The Topical Completion Rate is the proportion of topical-eligible households (i.e., occupied residences with children present) that completed a topical questionnaire. It is equal to I/HCt, where I is the count of completed topicals and HCt is the estimated count of households with children in the sample or S+R+(S+R)/(S+X+R) * e(UR+UO).

⁷ Total Response Rate is the proportion of screener-eligible households that completed a screener or topical questionnaire. It is equal to (X+I+P)/(X+I+P+RS+eUS), where I is the count of completed topicals, P is the count of sufficient partial completed topicals, RS is screener refusals, and eUS is the estimated count of screener eligible households among nonresponding addresses.

II. Method of Collection

Web Push

The 2020 NSCH plan for the web push data collection design includes 70% of the estimated 240,000 production addresses receiving an initial invite with instructions on how to complete an English or Spanish-language screener questionnaire via the web. Households that decide to complete the web-based survey will be taken through the screener questionnaire to determine if they are eligible for one of three topical instruments. Households that list at least one child who is 0 to 17 years old in the screener are directed into a topical questionnaire immediately after the last screener question. If a household in the web push treatment group decides to complete the paper screener, the household may have a chance to receive an additional topical questionnaire incentive.

Mixed-Mode

The 2020 NSCH plan for the mixed-mode data collection design includes approximately 30% of the 240,000 production addresses receiving both an initial invite with a paper screener questionnaire and instructions on how to complete an English or Spanish language screener questionnaire via the web. Households that decide to complete the web-based survey will follow the same screener and topical selection path as the web push. Households that choose to complete the paper screener questionnaire rather than completing the survey on the internet and that have eligible children will be mailed a paper topical questionnaire upon receipt of their completed paper screener at the Census Bureau's National Processing Center. If a household in the mixed-mode group chooses to complete the paper screener instead of completing the web-based screener via the internet, then the household may receive an additional topical questionnaire incentive.

Non-Response Follow-Up for the “High Web” Group and “High Paper” Group

The “High Web” group will receive two web survey invitation letters requesting its participation in the survey prior to receiving its first paper screener questionnaire in the second follow-up mailing. The “High Paper” group will receive both a web survey invitation letter along with a mailed paper screener questionnaire with the initial invitation and each follow-up mailing. Once a household in the “High Web” group receives a paper screener questionnaire, it will then have the option to either complete the web-based survey or complete the mailed paper screener, similar to the “High Paper” group. If the household chooses to complete the mailed paper questionnaire, then it would be considered part of the mailout/mailback paper-and-pencil interviewing treatment group. The paper-and-pencil treatment group receives a paper topical questionnaire, if there is at least one 0 to 17 year old eligible child reported on the screener. Nonresponse follow-up for the topical questionnaire will include up to one pressure-sealed postcard and up to three mailings including the paper topical questionnaire.

III. Data

OMB Control Number: 0607-0990.

Form Number(s): NSCH-S1 (English Screener),

NSCH-T1 (English Topical for 0- to 5-year-old children),

NSCH-T2 (English Topical for 6- to 11-year-old children),

NSCH-T3 (English Topical for 12- to 17-year-old children),

NSCH-S-S1 (Spanish Screener),

NSCH-S-T1 (Spanish Topical for 0- to 5-year-old children),

NSCH-S-T2 (Spanish Topical for 6- to 11-year-old children), and

NSCH-S-T3 (Spanish Topical for 12- to 17-year-old children).

Type of Review: Regular submission.

Affected Public: Parents, researchers, policymakers, and family advocates.

Estimated Number of Respondents: 94,370 for the screener and 39,596 for the topical.

Estimated Time per Response: 5 minutes per screener response and 33 minutes per topical response, which in total is approximately 38 minutes for households with eligible children.

Estimated Total Annual Burden Hours: 29,642 hours.

Estimated Total Annual Cost to Public: $0 (This is not the cost of respondents' time, but the indirect costs respondents may incur for such things as purchases of specialized software or hardware needed to report, or expenditures for accounting or records maintenance services required specifically by the collection.)

Respondent's Obligation: Voluntary.

Legal Authority: Title 13 U.S.C. Section 8(b); 42 U.S.C. 701; 1769d(a)(4)(B); and 42 U.S.C. 241.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-24962 Filed 11-18-19; 8:45 am]

BILLING CODE 3510-07-P